DEPARTMENT OF COMMERCE

National Oceanic and Atmospheric Administration

RIN 0648-XF094

Fisheries of the Northeastern United States; Northeast Skate Complex Fishery; Notice of Intent To Prepare an Environmental Impact Statement; Scoping Process; Request for Comments

AGENCY: National Marine Fisheries Service (NMFS), National Oceanic and Atmospheric Administration (NOAA), Commerce.

ACTION: Announcement of revised scoping hearing schedule; request for comments.

SUMMARY: The New England Fishery Management Council announces its intent to prepare, in cooperation with NMFS, a draft environmental impact statement consistent with the National Environmental Policy Act. A draft environmental impact statement may be necessary to provide analytic support for Amendment 5 to the Northeast Skate Complex Fishery Management Plan. This notice alerts the interested public of the scoping process for a potential draft environmental impact statement and outlines opportunity for public participation in that process.

DATES: Written and electronic scoping comments must be received on or before March 6, 2017.

ADDRESSES: Written scoping comments on Amendment 5 may be sent by any of the following methods:

• Email to the following address: comments@nefmc.org;

• Mail to: Thomas A. Nies, Executive Director, New England Fishery Management Council, 50 Water Street, Mill 2, Newburyport, MA 01950; or

• Fax to: (978) 465-3116.

Requests for copies of the Amendment 5 scoping document and other information should be directed to Thomas A. Nies, Executive Director, New England Fishery Management Council, 50 Water Street, Mill 2, Newburyport, MA 01950, telephone (978) 465-0492.

The scoping document is accessible electronically via the Internet at http://www.nefmc.org.

FOR FURTHER INFORMATION CONTACT: Thomas A. Nies, Executive Director, New England Fishery Management Council, (978) 465-0492.

SUPPLEMENTARY INFORMATION:

Background

The New England Fishery Management Council, working through its public participatory committee and meeting processes, anticipates the development of an amendment to consider limited access to the skate (bait and non-bait) fishery that may require an environmental impact statement (82 FR 825, January 4, 2017). This notice announces a revised public scoping hearing schedule as outlined in Table 1 to meet applicable criteria in the Council on Environmental Quality regulations and guidance for implementing the National Environmental Policy Act (NEPA). Amendment 5 will consider limited access to the skate (bait and non-bait) fishery.

The Northeast Skate Complex is comprised of seven species (barndoor, clearnose, little, rosette, smooth, thorny, and winter skate), managed as a single unit along the east coast from Maine to Cape Hatteras, NC. The skate bait fishery primarily targets little skate, with a small component of winter skate catch. The non-bait fishery, including the wing fishery, primarily targets winter skate.

Following the first skate stock assessment in 1999, the Northeast Skate Complex Fishery Management Plan was adopted in 2003. Amendment 3 established an annual catch limit and annual catch target for the skate complex, total allowable landings for the skate bait and non-bait fisheries, seasonal quotas for the bait fishery, new possession limits, and in-season possession limit triggers.

The skate fishery is an open access fishery—any vessel may join or leave the fishery at any time. Skate fishermen are concerned that increasingly strict regulations in other fisheries— particularly in the Northeast Multispecies (groundfish) fishery where several stocks are overfished and subject to strict catch restrictions—might cause these fishermen to switch their fishing effort onto skates. An increase in effort in the skate fishery could cause the fishery to harvest its catch limit in a shorter time period, trigger reduced skate trip limits, or have other negative economic impacts on current participants since developing skate markets could be negatively impacted by a flood of product.

A control date for the bait fishery was established on July 30, 2009 (74 FR 37977). A control date for the non-bait fishery was established on March 31, 2014 (79 FR 18002). The control dates may be used as a reference date for future management measures related to such rulemaking.

The Council has initiated the development of this amendment to address three issues:

• Limited access qualification criteria that would determine whether vessels may target skate. These criteria may differ by stock or management area and may treat older history differently than newer history;

• Limited access permit conditions (transfers, ownership caps, `history' permits, etc.); and

• Permit categories and associated measures.

The amendment's objective would be to establish qualification criteria for skate (bait and non-bait “wing”) fishing permits and possibly different qualification criteria or catch limits for each fishery, considering how they operate differently. For example, in the wing fishery, it may be desirable to have different permit tiers that distinguish between skate vessels that currently target skate, historically targeted, and/or vessels that catch and land small quantities. Qualification criteria might include several factors such as, but not limited to, the time period vessels have participated in the fishery (possibly using the control dates established for this fishery), historic levels of landings, and dependency on the fishery.

The Council may consider limiting access to the skate (bait and non-bait) fishery in a manner that may affect individual permit holder access to skates depending on the qualification criteria and other permit conditions developed. Based on individual fishing history, a vessel that has targeted skate may be distinguished differently from a vessel that caught and landed skates while fishing for other species. Landing limits for qualifiers and non-qualifiers could therefore be more consistent with the type of fishing that these vessels conduct in order to minimize discarding and economic effects. For example, the bait skate fishery currently requires a letter of authorization, but has substantially larger landing limits than the wing fishery. Some historic participants in the Northeast Skate Complex fisheries also may desire limited access privileges (a catch share program, for example).

Following the scoping period, the Council and its Skate Committee will identify the specific goals and objectives of the amendment and develop alternatives to meet the purpose and need of the action. With input from its committees and the public, the Council would select a range of alternatives to implement limited access in the skate fishery.

Public Comment

All persons affected by or otherwise interested in Northeast skate management are invited to comment on the scope and significance of issues to be analyzed by submitting written comments (see ADDRESSES) or by attending one of the six scoping meetings for this amendment. Scoping consists of identifying the range of actions, alternatives, and impacts to be considered. At this time in the process, the Council believes that the alternatives considered in Amendment 5 should include limited access to the skate fishery. After the scoping process is completed, the Council will begin development of Amendment 5 and, if necessary, will prepare a draft EIS to analyze the impacts of the range of alternatives under consideration. Impacts may be direct, individual, or cumulative.

The Council will hold public hearings to receive comments on the draft amendment and on the analysis of its impacts presented in the draft EIS. The hearings will be recorded. Consistent with U.S.C. 1852, a copy of the recordings are available upon request. In addition to soliciting comment on this notice, the public will have the opportunity to comment on the measures and alternatives being considered by the Council through public meetings and public comment periods consistent with NEPA, the Magnuson-Stevens Fishery Conservation and Management Act, and the Administrative Procedure Act. Any amendment developed and approved by the Council would have to be approved and implemented by NMFS.

The Council will take and discuss scoping comments on this amendment at the public meetings listed in Table 1.

Table 1—Past and Upcoming Amendment 5 Public Scoping Meeting Information
Meeting date and time | Meeting location
Portsmouth, NH, Tuesday, January 24, 2017, 5 p.m. (or immediately following the Council Meeting) | Sheraton Harborside Hotel, 250 Market Street, Portsmouth, NH 03801 04101, Telephone: (603) 431-2300.
Via Webinar, Tuesday, January 31, 2017, 6-8 p.m | Webinar Hearing, Register to participate:, https://global.gotomeeting.com/join/194149773, Call in info: Toll: +1 (646) 749-3122, Access Code: 194-149-773.
Buzzards Bay, MA, Tuesday, February 7, 2017, 6 p.m.-8 p.m | Mass Maritime, 101 Academy Drive, Buzzards Bay, MA 02532, Telephone: (508) 830-5000.
Narragnasett, RI, Thursday, February 9, 2017, 6 p.m.-8 p.m | Graduate School of Oceanography, Coastal Institute Building-Hazard Room, 215 S Ferry Rd, Narragansett, RI 02882, Telephone: (401) 874-6222.
***PLEASE NOTE NEW DATE***: Cape May, NJ, Thursday, February 21, 2017, 6 p.m.-8 p.m | Grand Hotel of Cape May, 1045 Beach Avenue, Cape May, NJ 08204, Telephone: (609) 884-5611.
***PLEASE NOTE NEW DATE***: Montauk, NY, Wednesday, February 22, 2017, 6 p.m.-8 p.m | Montauk Playhouse Community Center Foundation, Inc., 240 Edgemere St., Montauk, New York 11954, Telephone: (631) 668-1124.

A scoping document with additional background information is available on the Council's Web site at http://www.nefmc.org/management-plans/skates or may be obtained by contacting the Council. Additional information on the scoping meetings can be accessed online at http://www.nefmc.org/.

Special Accommodations

The meetings are accessible to people with physical disabilities. Requests for sign language interpretation or other auxiliary aids should be directed to Thomas A. Nies (see ADDRESSES) at least five days prior to each meeting date.

Authority: 16 U.S.C. 1801 et seq.

Dated: January 31, 2017.
Jennifer M. Wallace,
Acting Director, Office of Sustainable Fisheries, National Marine Fisheries Service.

[FR Doc. 2017-02307 Filed 2-2-17; 8:45 am]

BILLING CODE 3510-22-P